DEPARTMENT OF COMMERCE

National Oceanic and Atmospheric Administration

Caribbean Fishery Management Council; Public Meeting

AGENCY: National Marine Fisheries Service (NMFS), National Oceanic and Atmospheric Administration (NOAA), Commerce.

ACTION: Notice of public meeting.

SUMMARY: The Caribbean Fishery Management Council's (CFMC) Outreach and Education Advisory Panel (OEAP) will meet.

DATES: The meeting will be held on April 13, 2016, from 10 a.m. to 5 p.m.

ADDRESSES: The meeting will be held at CFMC Office, 270 Muñoz Rivera Avenue, Suite 401 San Juan, Puerto Rico 00918.

FOR FURTHER INFORMATION CONTACT: Caribbean Fishery Management Council, 270 Muñoz Rivera Avenue, Suite 401, San Juan, Puerto Rico 00918, telephone: (787) 766-5926.

SUPPLEMENTARY INFORMATION: The OEAP will meet to discuss the items contained in the following agenda:

—Call to Order

—Adoption of Agenda

—OEAP Members

—OEAP Chairperson's Report:

Hawaii Communications Meeting

Timing closures Public Hearings

—Status of:

—Sustainable Seafood Campaign

—Island-based FMPs

—CFMC Report

—2017 Calendar

—USVI activities

—PR Commercial Fisheries Project (PEPCO)—Helena Antoun

—MREP-Caribbean: Helena Antoune

—Fact Sheets/Infographics/small posters on:

New lobster traps

Octopus life cycle

Forage fish

Handling Fresh Tuna fish

Essential Fish Habitats

—Other Business

The OEAP meeting will convene on April 13, 2016, from 10 a.m. until 5 p.m. The meeting is open to the public, and will be conducted in English. Fishers and other interested persons are invited to attend and participate with oral or written statements regarding agenda issues.

Special Accommodations

This meeting is physically accessible to people with disabilities. For more information or request for sign language interpretation and/other auxiliary aids, please contact Mr. Miguel A. Rolón, Executive Director, Caribbean Fishery Management Council, 270 Muñoz Rivera Avenue, Suite 401, San Juan, Puerto Rico, 00918, telephone (787) 766-5926, at least 5 days prior to the meeting date.

Dated: February 23, 2016.
Tracey L. Thompson,
Acting Deputy Director, Office of Sustainable Fisheries, National Marine Fisheries Service.

[FR Doc. 2016-04170 Filed 2-25-16; 8:45 am]

BILLING CODE 3510-22-P